DEPARTMENT OF HOMELAND SECURITY

Federal Emergency Management Agency

[Docket ID FEMA-2023-0002; Internal Agency Docket No. FEMA-B2324]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arkansas:
Sebastian | City of Fort Smith (22-06-0574P). | Carl Geffken, Administrator, City of Fort Smith, 623 Garrison Avenue, Room 315, Fort Smith, AR 72901. | City Hall, 623 Garrison Avenue, Fort Smith, AR 72901. | https://msc.fema.gov/portal/advanceSearch. | Jun. 28, 2023 | 055013
Sebastian | Unincorporated areas of Sebastian County (22-06-0574P). | The Honorable Steve Hotz, Sebastian County Judge, 35 South 6th Street, Room 106, Fort Smith, AR 72901. | Sebastian County Courthouse, 35 South 6th Street, Fort Smith, AR 72901. | https://msc.fema.gov/portal/advanceSearch. | Jun. 28, 2023 | 050462
Colorado:
Elbert | Town of Elizabeth (22-08-0561P). | Patrick Davidson, Administrator, Town of Elizabeth, P.O. Box 159, Elizabeth, CO 80107. | Town Hall, 321 South Banner Street, Elizabeth, CO 80107. | https://msc.fema.gov/portal/advanceSearch. | Jun. 30, 2023 | 080056
Elbert | Unincorporated areas of Elbert County (22-08-0561P). | The Honorable Chris Richardson, Chair, Elbert County Board of Commissioners, P.O. Box 7, Kiowa, CO 80117. | Elbert County Government Building, 215 Comanche Street, Kiowa, CO 80117. | https://msc.fema.gov/portal/advanceSearch. | Jun. 30, 2023 | 080055
Florida:
Charlotte | City of Punta Gorda (22-04-4835P). | The Honorable Lynne Matthews, Mayor, City of Punta Gorda, 326 West Marion Avenue, Punta Gorda, FL 33950. | Building Department, 326 West Marion Avenue, Punta Gorda, FL 33950. | https://msc.fema.gov/portal/advanceSearch. | Jun. 30, 2023 | 120062
Polk | Unincorporated areas of Polk County (22-04-2066P). | Bill Beasley, Polk County Manager, 330 West Church Street, Bartow, FL 33831. | Polk County Land Development Division, 330 West Church Street, Bartow, FL 33831. | https://msc.fema.gov/portal/advanceSearch. | Jun. 15, 2023 | 120261
Minnesota:
Hennepin | City of Corcoran (22-05-1366P). | The Honorable Tom McKee, Mayor, City of Corcoran, 8200 County Road 116, Corcoran, MN 55340. | Public Works Department, 8200 County Road 116, Corcoran, MN 55340. | https://msc.fema.gov/portal/advanceSearch. | May 26, 2023 | 270155
Hennepin | City of Maple Grove (22-05-1366P). | The Honorable Mark Steffenson, Mayor, City of Maple Grove, 12800 Arbor Lakes Parkway North, Maple Grove, MN 55369. | Engineering Department, 12800 Arbor Lakes Parkway North, Maple Grove, MN 55369. | https://msc.fema.gov/portal/advanceSearch. | May 26, 2023 | 270169
North Carolina:
Mecklenburg | City of Charlotte (22-04-3208P). | The Honorable Vi Alexander Lyles, Mayor, City of Charlotte, 600 East 4th Street, Charlotte, NC 28202. | Mecklenburg County Stormwater Services Department, 2145 Suttle Avenue, Charlotte, NC 28208. | https://msc.fema.gov/portal/advanceSearch. | May 31, 2023 | 370159
Mecklenburg | City of Charlotte (22-04-4558P). | The Honorable Vi Alexander Lyles, Mayor, City of Charlotte, 600 East 4th Street, Charlotte, NC 28202. | Mecklenburg County Stormwater Services Department, 2145 Suttle Avenue, Charlotte, NC 28208. | https://msc.fema.gov/portal/advanceSearch. | Jun. 7, 2023 | 370159
Mecklenburg | Town of Pineville (22-04-4558P). | The Honorable John Edwards, Mayor, Town of Pineville, 253 Pineville Forest Drive, Pineville, NC 28134. | Mecklenburg County Stormwater Services Department, 2145 Suttle Avenue, Charlotte, NC 28208. | https://msc.fema.gov/portal/advanceSearch. | Jun. 7, 2023 | 370160
Surry | Unincorporated areas of Surry County (22-04-2047P). | The Honorable Eddie Harris, Chair, Surry County Board of Commissioners, 848 Liberty School Road, State Road, NC 28676. | Surry County Planning and Development Department, 122 Hamby Road, Dobson, NC 27017. | https://msc.fema.gov/portal/advanceSearch. | Jun. 13, 2023 | 370364
South Dakota: Beadle | City of Huron (22-08-0556P). | The Honorable Gary Harrington, Mayor, City of Huron, P.O. Box 1369, Huron, SD 57350. | Engineering Department, 239 Wisconsin Avenue Southwest, Huron, SD 57350. | https://msc.fema.gov/portal/advanceSearch. | May 11, 2023 | 460003
Tennessee:
Sumner | City of Hendersonville (22-04-4036P). | The Honorable Jamie Clary, Mayor, City of Hendersonville, 101 Maple Drive, North Hendersonville, TN 37075. | City Hall, 101 Maple Drive, North Hendersonville, TN 37075. | https://msc.fema.gov/portal/advanceSearch. | May 19, 2023 | 470186
Williamson | Unincorporated areas of Williamson County (22-04-4169P). | The Honorable Rogers Anderson, Mayor, Williamson County, 1320 West Main Street, Suite 125, Franklin, TN 37064. | Williamson County Administrative Complex, 1320 West Main Street, Suite 400, Franklin, TN 37064. | https://msc.fema.gov/portal/advanceSearch. | Jun. 2, 2023 | 470204
Texas:
Brazoria | City of Pearland (22-06-1958P). | The Honorable Kevin Cole, Mayor, City of Pearland, 3519 Liberty Drive, Pearland, TX 77581. | Engineering and Public Works Department, 2016 Old Alvin Road, Pearland, TX 77581. | https://msc.fema.gov/portal/advanceSearch. | Jun. 1, 2023 | 480077
Brazos | City of Bryan (22-06-1930P). | The Honorable Bobby Gutierrez, Mayor, City of Bryan, P.O. Box 1000, Bryan, TX 77805. | City Hall, 300 South Texas Avenue, Bryan, TX 77803. | https://msc.fema.gov/portal/advanceSearch. | Jun. 28, 2023 | 480082
Collin | City of Celina (22-06-1545P). | The Honorable Sean Terry, Mayor, City of Celina, 142 North Ohio Street, Celina, TX 75009. | City Hall, 142 North Ohio Street, Celina, TX 75009. | https://msc.fema.gov/portal/advanceSearch. | May 22, 2023 | 480133
Collin | City of Celina (22-06-2884P). | The Honorable Sean Terry, Mayor, City of Celina, 142 North Ohio Street, Celina, TX 75009. | City Hall, 142 North Ohio Street, Celina, TX 75009. | https://msc.fema.gov/portal/advanceSearch. | May 22, 2023 | 480133
Collin | Town of Prosper (22-06-1545P). | The Honorable David F. Bristol, Mayor, Town of Prosper, 250 West 1st Street, Prosper, TX 75078. | Town Hall, 250 West 1st Street, Prosper, TX 75078. | https://msc.fema.gov/portal/advanceSearch. | May 22, 2023 | 480141
Collin | Town of Prosper (22-06-1698P). | The Honorable David F. Bristol, Mayor, Town of Prosper, 250 West 1st Street, Prosper, TX 75078. | Town Hall250 West 1st StreetProsper, TX 75078. | https://msc.fema.gov/portal/advanceSearch. | Jun. 22, 2023 | 480141
Collin | Unincorporated areas of Collin County (22-06-2884P). | The Honorable Chris Hill, Collin County Judge, 2300 Bloomdale Road, Suite 4192, McKinney, TX 75071. | Collin County Engineering Department, 4690 Community Avenue, Suite 22, McKinney, TX 75071. | https://msc.fema.gov/portal/advanceSearch. | May 22, 2023 | 480130
Denton | City of Corinth (21-06-3404P). | Scott Campbell, Manager, City of Corinth, 3300 Corinth Parkway, Corinth, TX 76208. | Engineering Department, 1200 Corinth Street, Corinth, TX 76208. | https://msc.fema.gov/portal/advanceSearch. | Jun. 5, 2023 | 481143
Denton | City of Denton (22-06-2457P). | The Honorable Gerard Hudspeth, Mayor, City of Denton, 215 East McKinney Street, Suite 100, Denton, TX 76201. | Capital Projects/Engineering Department, 401 North Elm Street, Denton, TX 76201. | https://msc.fema.gov/portal/advanceSearch. | May 15, 2023 | 480194
Denton | City of Denton (21-06-3404P). | The Honorable Gerard Hudspeth, Mayor, City of Denton, 215 East McKinney Street, Suite 100, Denton, TX 76201. | Capital Projects/Engineering Department, 401 North Elm Street, Denton, TX 76201. | https://msc.fema.gov/portal/advanceSearch. | Jun. 5, 2023 | 480194
Ellis | City of Midlothian (22-06-2256P). | The Honorable Richard Reno, Mayor, City of Midlothian, 104 West Avenue E, Midlothian, TX 76065. | Engineering Department, 104 West Avenue E, Midlothian, TX 76065. | https://msc.fema.gov/portal/advanceSearch. | May 25, 2023 | 480801
Ellis | Unincorporated areas of Ellis County (22-06-1552P). | The Honorable Todd Little, Ellis County Judge, 101 West Main Street, Waxahachie, TX 75165. | Ellis County Courthouse, 101 West Main Street, Waxahachie, TX 75165. | https://msc.fema.gov/portal/advanceSearch. | Jun. 1, 2023 | 480798
Ellis | Unincorporated areas of Ellis County (22-06-2256P). | The Honorable Todd Little, Ellis County Judge, 101 West Main Street, Waxahachie, TX 75165. | Ellis County Courthouse, 101 West Main Street, Waxahachie, TX 75165. | https://msc.fema.gov/portal/advanceSearch. | May 25, 2023 | 480798
Ellis and Johnson | City of Venus (22-06-1552P). | The Honorable James L. Burgess, Mayor, City of Venus, 700 West U.S. Highway 67, Venus, TX 76084. | Department of Public Works, 700 West U.S. Highway 67, Venus, TX 76084. | https://msc.fema.gov/portal/advanceSearch. | Jun. 1, 2023 | 480883
Hays | City of Kyle (22-06-1978P). | The Honorable Travis Mitchell, Mayor, City of Kyle, 100 West Center Street, Kyle, TX 78640. | Engineering Department, 100 West Center Street, Kyle, TX 78640. | https://msc.fema.gov/portal/advanceSearch. | Jun. 8, 2023 | 481108
Kendall | Unincorporated areas of Kendall County (22-06-0783P). | The Honorable Darrel L. Lux, Kendall County Judge, 201 East San Antonio Avenue, Suite 122, Boerne, TX 78006. | Kendall County Engineering and Development Management Department, 201 East San Antonio Avenue, Boerne, TX 78006. | https://msc.fema.gov/portal/advanceSearch. | May 15, 2023 | 480417
Tarrant | City of Fort Worth (22-06-2438P). | The Honorable Mattie Parker, Mayor, City of Fort Worth, 200 Texas Street, Fort Worth, TX 76102. | Transportation and Public Works Department, Engineering Vault, 200 Texas Street, Fort Worth, TX 76102. | https://msc.fema.gov/portal/advanceSearch. | Jun. 29, 2023 | 480596
Travis | City of Leander (22-06-1862P). | The Honorable Christine DeLisle, Mayor, City of Leander, 105 North Brushy Street, Leander, TX 78641. | Engineering Department, 201 North Brushy Street, Leander, TX 78641. | https://msc.fema.gov/portal/advanceSearch. | May 26, 2023 | 481536
Travis | Unincorporated areas of Travis County (22-06-2228P). | The Honorable Andy Brown, Travis County Judge, P.O. Box 1748, Austin, TX 78767. | Travis County Floodplain Management Department, 700 Lavaca Street, 5th Floor, Austin, TX 78701. | https://msc.fema.gov/portal/advanceSearch. | Jun. 20, 2023 | 481026
Webb | City of Laredo (22-06-2664P). | The Honorable Victor Treviño, Mayor, City of Laredo, P.O. Box 579, Laredo, TX 78042. | Planning and Zoning Department, 1413 Houston Street, Laredo, TX 7804. | https://msc.fema.gov/portal/advanceSearch. | May 15, 2023 | 480651

[FR Doc. 2023-06277 Filed 3-24-23; 8:45 am]

BILLING CODE 9110-12-P